DEPARTMENT OF ENERGY

Federal Energy Regulatory Commission

[Docket No. RP00-436-000]

Paiute Pipeline Company; Notice of Compliance Filing

August 10, 2000.

Take notice that on August 7, 2000, Paiute Pipeline Company (Paiute) tendered for filing as part of its FERC Gas Tariff, Second Revised Volume No. 1-A, the following tariff sheets, to become effective March 27, 2000:

Second Revised Sheet No. 107

Third Revised Sheet No. 111

Second Revised Sheet No. 112

First Revised Sheet No. 113A

First Revised Sheet No. 113B

Second Revised Sheet No. 116

Paiute indicates that the purpose of its filing is to comply with the Commission's regulations adopted in Order Nos. 637 and 637-A which (1) remove the rate ceiling for capacity release transactions of less than one year, and (2) modify the scope of a shipper's right of first refusal upon expiration of a service agreement.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.us/online/rims.htm (call 202-208-2222 for assistance).

David P. Boergers,
Secretary.

[FR Doc. 00-20759 Filed 8-15-00; 8:45 am]

BILLING CODE 6717-01-M